DEPARTMENT OF HOMELAND SECURITY

Coast Guard

33 CFR Part 165

[Docket No. USCG-2016-0415]

Safety Zones; Captain of the Port Boston Fireworks Display Zone, Boston Harbor, Boston, MA

AGENCY: Coast Guard, DHS.

ACTION: Notice of enforcement of regulation.

SUMMARY: The Coast Guard will enforce special local regulations for the Boston Harborfest in Boston Inner Harbor on July 2, 2016, to provide for the safety of life on navigable waterways during the fireworks. Our regulation for Captain of the Port Boston Fireworks display zone, Boston Harbor, Boston, MA identifies the regulated area for this fireworks display. During the enforcement period, no vessel may transit this regulated area without approval from the Captain of the Port or a designated representative.

DATES: The regulation in 33 CFR 165.119(a)(2) will be enforced Saturday, July 2, 2016 from 9 p.m. to 9:45 p.m.

FOR FURTHER INFORMATION CONTACT: If you have questions about this notice of enforcement, call or email Mr. Mark Cutter, Sector Boston Waterways Management Division, U.S. Coast Guard; telephone 617-223-4000, email Mark.E.Cutter@uscg.mil.

SUPPLEMENTARY INFORMATION: The Coast Guard will enforce special local regulations in 33 CFR 165.119(a)(2) Saturday, July 2, 2016 from 9 p.m. to 9:45 p.m., for the Boston Harborfest in Boston Inner Harbor. This action is being taken to provide for the safety of life on navigable waterways during the fireworks display. Our regulation for Captain of the Port Boston Fireworks display zone, Boston Harbor, Boston, MA, § 165.119(a)(2), specifies the location of the regulated area as all U.S. navigable waters of Boston Inner Harbor within a 700-foot radius of the fireworks barge in approximate position 42°21′41.2″ N. 071°02′36.5″ W. (NAD 1983), located off of Long Wharf, Boston MA. As specified in § 165.119(e), during the enforcement period, no vessel may transit this regulated area without approval from the Captain of the Port Sector Boston (COTP) or a COTP designated representative.

This notice of enforcement is issued under authority of 33 CFR 165.119 and 5 U.S.C. 552(a). In addition to this notice of enforcement in the Federal Register, the Coast Guard plans to provide notification of this enforcement periods via the Local Notice to Mariners and Broadcast Notice to Mariners.

Dated: June 17, 2016.
C.C. Gelzer,
Captain, U.S. Coast Guard, Captain of the Port Boston.

[FR Doc. 2016-15090 Filed 6-24-16; 8:45 am]

BILLING CODE 9110-04-P